DEPARTMENT OF THE TREASURY

5 CFR Part 3101

Supplemental Standards of Ethical Conduct for Employees of the Department of the Treasury; Correction

AGENCY: Department of the Treasury.

ACTION: Correcting amendments.

SUMMARY: This document contains corrections to a final rule that was published in the Federal Register on Thursday, November 6, 2014. The final rule amended the Department of the Treasury's (the Department or Treasury) Supplemental Standards of Ethical Conduct for Employees of the Department of the Treasury (Supplemental Standards) that was issued by the Department with the concurrence of the Office of Government Ethics (OGE).

DATES: Effective date: February 12, 2015.

FOR FURTHER INFORMATION CONTACT: Elizabeth Horton, Deputy Assistant General Counsel for Ethics, Office of the General Counsel, Department of the Treasury, 1500 Pennsylvania Avenue NW., Room 2221, Washington DC 20220; (202) 622-0450.

SUPPLEMENTARY INFORMATION:

I. Background

On November 6, 2014, Treasury published a final rule amending its Supplemental Standards of Ethical Conduct. 79 FR 65873. Treasury amended its Supplemental Standards, codified at 5 CFR part 3101, effective November 6, 2014, to account for current Department structure resulting from organizational changes that established new offices or bureaus within Treasury and transferred certain functions and/or bureaus from the Department. The final rule also amended the Supplemental Standards applicable to employees of the Office of the Comptroller of the Currency (OCC), 5 CFR 3101.108, which generally prohibit OCC employees from investing in or borrowing from OCC-supervised institutions. See 79 FR 65873-65879.

II. Need for Correction

In order to reflect Treasury's current organizational make up, the final rule amended the Supplemental Standards to remove references and rules applicable to employees of the Bureau of Alcohol, Tobacco and Firearms (ATF), the Federal Law Enforcement Training Center, the United States Customs Service (USCS), the United States Secret Service (USSS), and the Office of Thrift Supervision (OTS), as these are no longer bureaus or components of the Department.

The Department inadvertently left references to OTS, ATF, USCS, and USSS in two notes following §§ 3101.103 and 3101.104 of the Supplemental Standards. This technical correction revises these sections to remove these references.

Lists of Subjects in 5 CFR Part 3101

Conflict of interests, Ethics, Extensions of credit, Government employees, OCC employees.

For the reasons set forth in the preamble, the Department, with the concurrence of OGE, corrects 5 CFR part 3101 as follows:

PART 3101—SUPPLEMENTAL STANDARDS OF ETHICAL CONDUCT FOR EMPLOYEES OF THE DEPARTMENT OF THE TREASURY

1. The authority citation for part 3101 continues to read as follows:

Authority: 5 U.S.C. 301, 7301, 7353; 5 U.S.C. App. (Ethics in Government Act of 1978); 18 U.S.C. 212, 213, 26 U.S.C. 7214(b); E.O. 12674, 54 FR 15159, 3 CFR, 1989 Comp., p. 215, as modified by E.O. 12731, 55 FR 42547, 3 CFR, 1990 Comp., p. 306; 5 CFR 2635.105, 2635.203(a), 2635.403(a), 2635.803, 2635.807(a)(2)(ii).

2. In § 3101.103, the Note is revised to read as follows:

§ 3101.103 Prohibition on purchase of certain assets.

* * * * *

Note to § 3101.103. Employees of the OCC are subject to additional limitations on the purchase of assets that are set out in the OCC-specific rules contained in § 3101.108.

3. In § 3101.104, the Note after paragraph (a) is revised to read as follows:

§ 3101.104 Outside employment.

* * * * *

Note to paragraph (a). Employees of the IRS, Legal Division, and OCC are subject to additional limitations on outside employment and activities that are set out in bureau-specific rules contained in this part.

* * * * *

By the Department of the Treasury.
Christopher J. Meade,
General Counsel.
Dated: January 30, 2015.
By the Office of Government Ethics.
Walter M. Shaub, Jr.,
Director.

[FR Doc. 2015-02918 Filed 2-11-15; 8:45 am]

BILLING CODE 4810-25-P